DEPARTMENT OF STATE

[Public Notice: 12681]

Notice of Shipping Coordinating Committee Meeting in Preparation for International Maritime Organization (IMO) Marine Environmental Protection Committee (MEPC) 83 Meeting

The Department of State will conduct a public meeting at 10 a.m. ET on Thursday, March 27, 2025, both in-person at Coast Guard Headquarters in Washington, DC, and via teleconference through Microsoft Teams. The primary purpose of the meeting is to prepare for the eighty-third session of the International Maritime Organization's (IMO) Marine Environment Protection Committee (MEPC 83) to be held in London, United Kingdom, from Monday, April 7, 2025, to Friday, April 11, 2025.

Members of the public may participate up to the capacity of the teleconference line, which will handle 500 participants, or up to the seating capacity of the room if attending in-person.

The agenda items to be considered include:

—Adoption of the agenda

—Decisions of other bodies

—Consideration and adoption of amendments to mandatory instruments

—Harmful aquatic organisms in ballast water

—Air pollution prevention

—Energy efficiency of ships

—Reduction of GHG emissions from ships

—Follow-up work emanating from the Action Plan to Address Marine Plastic Litter from Ships

—Experience-building phase for the reduction of underwater radiated noise from shipping

—Pollution prevention and response

—Reports of other sub-committees

—Identification and protection of Special Areas, ECAs and PSSAs

—Application of the Committees' method of work

—Work programme of the Committee and subsidiary bodies

—Election of the Chair and Vice Chair for 2026

—Any other business

—Consideration of the report of the Committee

Please note: The IMO may, on short notice, adjust the MEPC 83 agenda to accommodate any constraints associated with the meeting. Although no changes to the agenda are anticipated, if any are necessary, they will be provided to those who RSVP.

Those who plan to participate should contact the meeting coordinator, LCDR Emily K. Rowan at emily.k.rowan@uscg.mil, by phone at (202) 372-1376, or in writing at 2703 Martin Luther King Jr. Ave. SE, Stop 7509, Washington, DC 20593-7509 no later than March 21, 2025, 6 days prior to the meeting. Requests made after March 21, 2025, might not be able to be accommodated. The meeting coordinator will provide the teleconference information, facilitate the building security process, and handle requests for reasonable accommodation. Please note that due to security considerations, two valid, government issued photo identifications must be presented to gain entrance to the Douglas A. Munro Coast Guard Headquarters Building at St. Elizabeth's. This building is accessible by taxi, public transportation, and privately owned conveyance (upon advanced request).

This announcement might appear in the Federal Register less than 15 days prior to the meeting. The Department of State finds that there is an exceptional circumstance in that this advisory committee meeting must be held on March 27, due to the fact that the IMO meeting date is firm, and it is important for the Department to obtain the views of the public prior to the meeting.

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-03885 Filed 3-11-25; 8:45 am]

BILLING CODE 4710-09-P